DEPARTMENT OF ENERGY

Federal Energy Regulatory Commission

Combined Notice of Filings #1

Take notice that the Commission received the following electric rate filings:

Docket Numbers: ER10-1847-003; ER10-1856-003; ER10-1890-003; ER11-2160-003; ER10-1906-003; ER11-3635-004; ER10-1962-003; ER11-4677-004; ER12-2444-003; ER12-676-004; ER11-2192-005; ER10-1989-003; ER11-4678-004; ER10-1992-003; ER12-631-004; ER10-1971-011.

Applicants: Diablo Winds, LLC.

Description: Supplement to July 1, 2013 Triennial Market Power Update for the Southwest Region of NextEra Companies.

Filed Date: 1/10/14.

Accession Number: 20140110-5177.

Comments Due: 5 p.m. ET 3/10/14.

Docket Numbers: ER10-2609-006; ER10-2604-004; ER10-2603-004; ER10-2602-007; ER10-2606-006.

Applicants: Escanaba Paper Company.

Description: Supplement to January 2, 2014 Notice of Change in Status of the NewPage MBR Companies.

Filed Date: 2/28/14.

Accession Number: 20140228-5138.

Comments Due: 5 p.m. ET 3/21/14.

Docket Numbers: ER10-3077-003; ER10-3075-003; ER10-3076-003; ER10-3074-003; ER10-3071-003; ER10-3257-002.

Applicants: CalPeak Power LLC, CalPeak Power—Border LLC, CalPeak Power—Enterprise LLC, CalPeak Power—Vaca Dixon LLC, CalPeak Power—Panoche LLC, Starwood Power-Midway, LLC.

Description: Amendment to July 1, 2013 Updated Market Power Analysis for the Southwest Region of the CalPeak Entities, et. al.

Filed Date: 2/27/14.

Accession Number: 20140227-5233.

Comments Due: 5 p.m. ET 3/20/14.

Docket Numbers: ER11-4267-007; ER11-4270-007; ER11-4269-008; ER11-4268-007; ER11-113-008; ER10-2682-007; ER12-1680-005; ER11-4694-004.

Applicants: Algonquin Energy Services Inc., Algonquin Power Windsor Locks, LLC, Algonquin Tinker Gen Co., Algonquin Northern Maine Gen Co., Sandy Ridge Wind, LLC, Granite State Electric Company, Minonk Wind, LLC,GSG 6, LLC.

Description: Supplement to December 31, 2013 Triennial Market Power Update for the Northeast Region of the APUC Entities.

Filed Date: 2/21/14.

Accession Number: 20140221-5041.

Comments Due: 5 p.m. ET 3/14/14.

Docket Numbers: ER12-1436-006; ER14-152-001; ER14-153-001; ER14-154-001; ER13-1793-003; ER10-3300-006; ER13-2386-001; ER10-3099-007; ER12-1260-005; ER10-2329-003.

Applicants: Eagle Point Power Generation LLC, Elgin Energy Center, LLC, Gibson City Energy Center, LLC, Grand Tower Energy Center, LLC, Hazle Spindle, LLC, La Paloma Generating Company, LLC, Lakeswind Power Partners, LLC,RC Cape May Holdings, LLC, Stephentown Spindle, LLC, Vineland Energy LLC.

Description: Notice of Change in Status of the Rockland Sellers.

Filed Date: 2/27/14.

Accession Number: 20140227-5234.

Comments Due: 5 p.m. ET 3/20/14.

Docket Numbers: ER14-1099-001.

Applicants: Westar Energy, Inc.

Description: Amendment BPU McPherson Electric Interconnection Agreement to be effective 3/1/2014.

Filed Date: 2/28/14.

Accession Number: 20140228-5000.

Comments Due: 5 p.m. ET 3/10/14.

Docket Numbers: ER14-1161-000; ER14-1219-000.

Applicants: Milford Power, LLC.

Description: Supplement to January 27, 2014 Milford Power Limited Partnership and January 30, 2014 Armstrong Power, LLC tariff filing(s).

Filed Date: 2/28/14.

Accession Number: 20140228-5084.

Comments Due: 5 p.m. ET 3/21/14.

Docket Numbers: ER14-1381-000.

Applicants: WSPP Inc.

Description: Integration into FERC Accepted Cost-Based Rate Schedules (PacifiCorp) to be effective 12/25/2013.

Filed Date: 2/27/14.

Accession Number: 20140227-5223.

Comments Due: 5 p.m. ET 3/20/14.

Docket Numbers: ER14-1382-000.

Applicants: Southern California Edison Company.

Description: SGIA & Distribution Service Agreement with Windpower Partners 1993, L.P. to be effective 6/1/2013.

Filed Date: 2/28/14.

Accession Number: 20140228-5004.

Comments Due: 5 p.m. ET 3/21/14.

Docket Numbers: ER14-1383-000.

Applicants: Transource Missouri, LLC.

Description: Application of Transource Missouri, LLC under Section 205 of the Federal Power Act regarding regulatory asset costs.

Filed Date: 2/27/14.

Accession Number: 20140227-5230.

Comments Due: 5 p.m. ET 3/20/14.

Docket Numbers: ER14-1384-000.

Applicants: Southwestern Electric Power Company.

Description: SWEPCO-NTEC Walnut Springs DPA to be effective 2/3/2014.

Filed Date: 2/28/14.

Accession Number: 20140228-5065.

Comments Due: 5 p.m. ET 3/21/14.

Docket Numbers: ER14-1385-000.

Applicants: Southern California Edison Company.

Description: SCE Change in Status to be effective 11/27/2013.

Filed Date: 2/28/14.

Accession Number: 20140228-5148.

Comments Due: 5 p.m. ET 3/21/14.

Docket Numbers: ER14-1386-000.

Applicants: California Independent System Operator Corporation.

Description: EIM to be effective 7/1/2014.

Filed Date: 2/28/14.

Accession Number: 20140228-5171.

Comments Due: 5 p.m. ET 3/21/14.

Docket Numbers: ER14-1387-000.

Applicants: New England Power Company.

Description: Notice of Cancellation of Interconnection Agreement with Ware Cogen to be effective 4/30/2014.

Filed Date: 2/28/14.

Accession Number: 20140228-5198.

Comments Due: 5 p.m. ET 3/21/14.

Docket Numbers: ER14-1388-000.

Applicants: El Paso Electric Company.

Description: OATT Revisions to Reflect Palo Verde Index Pricing for Sch 4 and 9 Imbalances to be effective 5/1/2014.

Filed Date: 2/28/14.

Accession Number: 20140228-5219.

Comments Due: 5 p.m. ET 3/21/14.

Docket Numbers: ER14-1389-000.

Applicants: Condon Wind Power, LLC.

Description: Condon Wind Power LLC Change in Status Filing to be effective 4/29/2014.

Filed Date: 2/28/14.

Accession Number: 20140228-5235.

Comments Due: 5 p.m. ET 3/21/14.

Docket Numbers: ER14-1390-000.

Applicants: Lake Benton Power Partners LLC.

Description: Lake Benton MBR Tariff Filing to be effective 4/29/2014.

Filed Date: 2/28/14.

Accession Number: 20140228-5237.

Comments Due: 5 p.m. ET 3/21/14.

Docket Numbers: ER14-1391-000.

Applicants: Midcontinent Independent System Operator, Inc.

Description: 2014-02-28_SA 6505 Termination of Coleman SSR Agreement to be effective 5/1/2014.

Filed Date: 2/28/14.

Accession Number: 20140228-5242.

Comments Due: 5 p.m. ET 3/21/14.

Docket Numbers: ER14-1392-000.

Applicants: Midcontinent Independent System Operator, Inc.

Description: 2014-02-28_Cancellation of Schedule 43F Coleman SSR to be effective 5/1/2014.

Filed Date: 2/28/14.

Accession Number: 20140228-5244.

Comments Due: 5 p.m. ET 3/21/14.

Take notice that the Commission received the following public utility holding company filings:

Docket Numbers: PH14-6-000.

Applicants: New Jersey Resources Corporation.

Description: Notice of Material Change in Facts and FERC-65A Exemption Notification of New Jersey Resources Corporation.

Filed Date: 2/27/14.

Accession Number: 20140227-5149.

Comments Due: 5 p.m. ET 3/20/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 28, 2014.
Nathaniel J. Davis, Sr.,
Deputy Secretary.

[FR Doc. 2014-05092 Filed 3-7-14; 8:45 am]

BILLING CODE 6717-01-P